SECURITIES AND EXCHANGE COMMISSION

[Release No. 34-82936; File No. SR-CBOE-2018-008]

Self-Regulatory Organizations; Cboe Exchange, Inc.; Notice of Designation of a Longer Period for Commission Action on a Proposed Rule Change Relating to Flexibly Structured Options

March 23, 2018.

On January 19, 2018, Cboe Exchange, Inc. (“Exchange”) filed with the Securities and Exchange Commission (“Commission”), pursuant to Section 19(b)(1) of the Securities Exchange Act of 1934 (“Act”) ¹ and Rule 19b-4 thereunder,² a proposed rule change to amend the Exchange's rules relating to the fungibility of Flexible Exchange Options (“FLEX Options”) with Non-FLEX Options that have identical terms to, among other things, include FLEX Options on quarterly expirations, short term expirations, weekly expirations and end-of-month expirations. The proposed rule change was published for comment in the Federal Register on February 8, 2018.³ The Commission has received no comments on the proposed rule change.

¹ 15 U.S.C. 78s(b)(1).

² 17 CFR 240.19b-4.

³ See Securities Exchange Act Release No. 82622 (Feb. 2, 2018), 83 FR 5668 (Feb. 8, 2018) (“Notice”).

Section 19(b)(2) of the Act ⁴ provides that, within 45 days of the publication of notice of the filing of a proposed rule change, or within such longer period up to 90 days as the Commission may designate if it finds such longer period to be appropriate and publishes its reasons for so finding or as to which the self-regulatory organization consents, the Commission shall approve the proposed rule change, disapprove the proposed rule change, or institute proceedings to determine whether the proposed rule change should be approved or disapproved. The 45th day after publication of the notice for this proposed rule change is March 25, 2018. The Commission is extending this 45-day time period.

⁴ 15 U.S.C. 78s(b)(2).

The Commission finds that it is appropriate to designate a longer period within which to take action on the proposed rule change so that the Commission has sufficient time to consider the proposed rule change. Accordingly, the Commission, pursuant to Section 19(b)(2) of the Act,⁵ designates May 9, 2018, as the date by which the Commission should approve or disapprove or institute proceedings to determine whether to disapprove the proposed rule change (File Number SR-CBOE-2018-008).

⁵ Id.

⁶ 17 CFR 200.30-3(a)(31).

For the Commission, by the Division of Trading and Markets, pursuant to delegated authority.⁶
Brent J. Fields,
Secretary.

[FR Doc. 2018-06296 Filed 3-28-18; 8:45 am]

BILLING CODE 8011-01-P